DEPARTMENT OF EDUCATION

Privacy Act of 1974; System of Records—Free Application for Federal Student Aid (FAFSA) Completion Study

AGENCY: Institute of Education Sciences, Department of Education.

ACTION: Notice of a new system of records.

SUMMARY: In accordance with the Privacy Act of 1974, as amended, (Privacy Act), the Department of Education (Department) publishes this notice of a new system of records entitled “The FAFSA Completion Study” (18-13-34).

DATES: The Department seeks comment on the new system of records described in this notice, in accordance with the requirements of the Privacy Act. We must receive your comments on the proposed routine uses for the system of records referenced in this notice on or before April 15, 2013.

The Department filed a report describing the new system of records covered by this notice with the Chair of the Senate Committee on Homeland Security and Governmental Affairs, the Chair of the House Committee on Oversight and Government Reform, and the Administrator of the Office of Information and Regulatory Affairs, Office of Management and Budget (OMB) on March 12, 2013. This system of records will become effective at the later date of—(1) the expiration of the 40-day period for OMB review on April 22, 2013, unless OMB waives 10 days of the 40-day review period for compelling reasons shown by the Department, or (2) April 15, 2013, unless the system of records needs to be changed as a result of public comment or OMB review.

ADDRESSES: Address all comments about this new system of records to Dr. Audrey Pendleton, Associate Commissioner, Evaluation Division, National Center for Education Evaluation and Regional Assistance, Institute of Education Sciences, U.S. Department of Education, 555 New Jersey Avenue NW., Room 502D, Washington, DC 20208-0001. Telephone: (202) 208-7078. If you prefer to send comments through the Internet, use the following address: comments@ed.gov.

You must include the term “FAFSA Completion Study” in the subject line of the electronic message.

During and after the comment period, you may inspect all comments about this notice at the U.S. Department of Education in room 502D, 555 New Jersey Avenue NW., Washington, DC, between the hours of 8:00 a.m. and 4:30 p.m., Eastern Time, Monday through Friday of each week except Federal holidays.

Assistance to Individuals With Disabilities in Reviewing the Rulemaking Record

On request we will provide an appropriate accommodation or auxiliary aid to an individual with a disability, such as a reader or print magnifier, who needs assistance to review the comments or other documents in the public rulemaking record for this notice. If you want to schedule an appointment for this type of accommodation or auxiliary aid, please contact the person listed under FOR FURTHER INFORMATION CONTACT.

FOR FURTHER INFORMATION CONTACT: Dr. Marsha Silverberg. Telephone: (202) 208-7178. If you use a telecommunications device for the deaf (TDD) or a text telephone (TTY), call the Federal Relay Service (FRS), toll free, at 1-800-877-8339.

Individuals with disabilities can obtain this document in an accessible format (e.g., braille, large print, audiotape, or compact disc) on request to the contact person listed in this section.

SUPPLEMENTARY INFORMATION:

Introduction

The Privacy Act (5 U.S.C. 552a) requires the Department to publish in the Federal Register this notice of a new system of records maintained by the Department. The Department's regulations implementing the Privacy Act are contained in part 5b of Title 34 of the Code of Federal Regulations (CFR).

The Privacy Act applies to any record about an individual that is maintained in a system of records from which individually identifying information is retrieved by a unique identifier associated with each individual, such as a name or Social Security Number. The information about each individual is called a “record,” and the system, whether manual or computer-based, is called a “system of records.”

The Privacy Act requires each agency to publish a notice of a system of records in the Federal Register and to prepare and send a report to OMB whenever the agency publishes a new system of records or makes a significant change to an established system of records. Each agency is also required to send copies of the report to the Chair of the Senate Committee on Homeland Security and Governmental Affairs and the Chair of the House Committee on Oversight and Government Reform. These reports are inc1uded to permit an evaluation of the probable effect of the proposal on the privacy rights of individuals.

The National Center for Education Evaluation and Regional Assistance at the Department's Institute of Education Sciences (IES) is conducting an evaluation of the impacts of the Department's providing school districts with access to data on individual students' Free Application for Student Aid (FAFSA). Districts and their schools are expected to implement targeted outreach to seniors and their families who have not completed the FAFSA. This study is authorized by section 173(a)(1)(A) of the Education Sciences Reform Act of 2002 (ESRA) (20 U.S.C. 9563(a)(1)(A)), which authorizes the National Center for Education Evaluation and Regional Assistance to conduct evaluations of Federal education programs administered by the Secretary and to determine the impact of such programs. The study will compare students from schools with access to students' FAFSA completion data to students from similar schools without access to FAFSA completion data in order to assess the effects of access to FAFSA completion data on FAFSA completion rates, Federal financial aid receipt, and college enrollment. IES staff are conducting the study, although they may receive some assistance from an existing technical support contract.

The study will provide credible and reliable information to help guide future policy decisions in the area of Federal financial aid. The central research questions that the study will address are: What is the impact of school access to individual FAFSA completion data on students' applications for Federal student aid? Does this access increase receipt of Federal student aid? Does this access affect college enrollment?

The system will contain records on approximately 180,000 students from 80 participating school districts. Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 12, 2013.
John Q. Easton,
Director, Institute of Education Sciences.

For the reasons discussed in the preamble, the Director of the Institute of Education Sciences, U.S. Department of Education, publishes a notice of a new system of records to read as follows:

SYSTEM NUMBER: 18-13-34

SYSTEM NAME:

The FAFSA Completion Study.

SECURITY CLASSIFICATION:

None.

SYSTEM LOCATIONS:

(1) Evaluation Division, National Center for Education Evaluation and Regional Assistance, Institute of Education Sciences (IES), U.S. Department of Education, 555 New Jersey Avenue NW., Room 502D, Washington, DC 20208-0001.

(2) Decision Information Resources, Inc., 2600 Southwest Freeway, Suite 900, Houston, Texas 77098-[Insert the last four digits of ZIP code] (contractor).

(3) Abt Associates, 4550 Montgomery Avenue, Suite 800 North, Bethesda, MD 20814-3343 (subcontractor).

CATEGORIES OF INDIVIDUALS COVERED BY THE SYSTEM:

The system will contain records on approximately 180,000 students from 80 school districts.

CATEGORIES OF RECORDS IN THE SYSTEM:

The system of records includes student directory information, as described in 34 CFR 99.3, 99.31(a)(11), and 99.37, obtained from school districts that agree to participate in the study. For the participating school districts, the student directory information on those students who have not opted out of the disclosure of their directory information includes the student's name, birth date, and zip code. This system of records also includes information on the student's FAFSA completion status and the resulting financial aid received by the student, which is obtained from the Department's Office of Federal Student Aid.

AUTHORITY FOR MAINTENANCE OF THE SYSTEM:

The study is authorized by section 173(a)(1)(A) of the Education Sciences Reform Act of 2002 (ESRA) (20 U.S.C. 9563(a)(1)(A)), which authorizes the National Center for Education Evaluation and Regional Assistance to conduct evaluations of Federal education programs administered by the Secretary and to determine the impact of such programs.

PURPOSE(S):

The information contained in the records maintained in this system will support an evaluation of the impacts of the Department's providing school districts with access to data on individual students' Free Application for Student Aid (FAFSA). Districts and their schools are expected to implement targeted outreach to seniors and their families who have not completed the FAFSA. The study will compare students from schools with access to students' FAFSA completion data to students from similar schools without access to the students' FAFSA completion data in order to assess the effects of access to FAFSA completion data on FAFSA completion rates, Federal financial aid receipt, and college enrollment. The study will address the following research questions:

1. What is the impact of school access to the completion data on students' applications for Federal student aid? With completion of a FAFSA a necessary prerequisite for obtaining federal student aid, the most direct goal of the project is to increase rates of FAFSA form completions; the evaluation will examine whether this is the case.

2. What is the impact on students' receipt of Federal student aid? Receipt of financial aid is the key gateway to college enrollment. In addition, it is possible that school's project efforts could increase not only FAFSA application completion rates but also the accuracy and quality of the information provided, thereby making students more likely to receive aid.

3. What is the impact on college enrollment? Ultimately, the Department hopes that providing schools with access to individual student FAFSA data will—through increased receipt of financial aid—also increase college enrollment.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. These disclosures may be made on a case-by-case basis or, if the Department has complied with the computer matching requirements of the Privacy Act of 1974, as amended (Privacy Act), under a computer matching agreement. Any disclosure of individually identifiable information from a record in this system must also comply with the requirements of section 183 of the ESRA (20 U.S.C. 9573) providing for confidentiality standards that apply to all collections, reporting, and publication of data by IES.

(1) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(2) Research Disclosure. The Director of the Institute of Education Sciences may disclose information from this system of records to qualified researchers solely for the purpose of carrying out specific research that is compatible with the purpose(s) of this system of records. The researcher shall be required to maintain safeguards under the Privacy Act and section 183 of the ESRA (20 U.S.C. 9573(c)) with respect to such records. When personally identifiable information from a student's education record, other than directory information, will be disclosed to the researcher under the Family Educational Rights and Privacy Act (FERPA), the researcher also shall be required to comply with the requirements in the applicable FERPA exception to consent.

DISCLOSURE TO CONSUMER REPORTING AGENCIES:

Not applicable to this system of records.

POLICIES AND PRACTICES FOR STORING, RETRIEVING, ACCESSING, RETAINING, AND DISPOSING OF RECORDS IN THE SYSTEM:

STORAGE:

The Department maintains records on CD-ROM, and should IES' technical support contractor (Decision Information Resources, Inc.) and sub-contractor (Mathematica Policy Research, Inc.) be asked to provide assistance, they will maintain data for this system on computers and in hard copy.

RETRIEVABILITY:

Records in this system are indexed and retrieved by a number assigned to each individual that is cross-referenced by the individual's name on a separate list.

SAFEGUARDS:

All physical access to the Department's site and to the sites of the Department's contractor and subcontractor, where this system of records may be maintained, is controlled and monitored by security personnel. The computer system employed by the Department offers a high degree of resistance to tampering and circumvention. This security system limits data access to Department and contract staff on a need-to-know basis, and controls individual users' ability to access and alter records within the system. The contractor and subcontractor, should they be asked to provide technical support, will establish a similar set of procedures at their sites to ensure confidentiality of data. The contractor's and subcontractor's systems are required to ensure that information identifying individuals is in files physically separated from other research data. The contractor and subcontractor will maintain security of the complete set of all master data files and documentation. Access to individually identifying data will be strictly controlled. All data will be kept in locked file cabinets during nonworking hours, and work on hardcopy data will take place in a single room, except for data entry. Physical security of electronic data will also be maintained. Security features that protect project data include: Password-protected accounts that authorize users to use the contractor's system but to access only specific network directories and network software; user rights and directory and file attributes that limit those who can use particular directories and files and determine how they can use them; and additional security features that the network administrators will establish for projects as needed. The contractor's and subcontractor's employees who “maintain” (collect, maintain, use, or disseminate) data in this system shall comply with the requirements of the confidentiality standards in section 183 of the ESRA (20 U.S.C. 9573).

RETENTION AND DISPOSAL:

Records are maintained and disposed of in accordance with the Department's Records Disposition Schedule ED 068.a (NARA Disposition Authority N1-441-08-18).

SYSTEM MANAGER AND ADDRESS:

Associate Commissioner, Evaluation Division, National Center for Education Evaluation and Regional Assistance, Institute of Education Sciences, U.S. Department of Education, 555 New Jersey Avenue NW., Room 502D, Washington, DC 20208-0001.

NOTIFICATION PROCEDURE:

If you wish to determine whether a record exists regarding you in the system of records, contact the systems manager. Your request must meet the requirements of regulations at 34 CFR 5b.5, including proof of identity.

RECORD ACCESS PROCEDURE:

If you wish to gain access to your record in the system of records, contact the system manager. Your request must meet the requirements of regulations at 34 CFR 5b.5, including proof of identity.

CONTESTING RECORD PROCEDURE:

If you wish to contest the content of a record regarding you in the system of records, contact the system manager. Your request must meet the requirements of the regulations at 34 CFR 5b.7, including proof of identity.

RECORD SOURCE CATEGORIES:

This system contains records on students participating in the FAFSA Completion Study. Data will be obtained through student directory information maintained by participating school districts and data extracts from the Office of Federal Student Aid.

EXEMPTIONS CLAIMED FOR THE SYSTEM:

None.

[FR Doc. 2013-06073 Filed 3-14-13; 8:45 am]

BILLING CODE 4000-01-P